DEPARTMENT OF VETERANS AFFAIRS

[OMB Control No. 2900-0613]

Agency Information Collection Activity Under OMB Review: Record Keeping at Flight Schools

AGENCY: Veterans Benefits Administration, Department of Veterans Affairs.

ACTION: Notice.

SUMMARY: In compliance with the Paperwork Reduction Act (PRA) of 1995 this notice announces that the Veterans Benefits Administration (VBA), Department of Veterans Affairs, will submit the collection of information abstracted below to the Office of Management and Budget (OMB) for review and comment. The PRA submission describes the nature of the information collection and its expected cost and burden; it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0613.

FOR FURTHER INFORMATION CONTACT: Danny S. Green, Enterprise Records Service (005R1B), Department of Veterans Affairs, 810 Vermont Avenue NW, Washington, DC 20420, (202) 421-1354 or email danny.green2@va.gov. Please refer to “OMB Control No. 2900-0613” in any correspondence.

SUPPLEMENTARY INFORMATION:

Authority: 38 U.S.C. 3690(c); 38 CFR 21.4263(h)(3).

Title: Record Keeping at Flight Schools.

OMB Control Number: 2900-0613.

Type of Review: Revision of a currently approved collection.

Abstract: The State approving agencies that approve courses for VA training use these records to determine if courses offered by flight schools should be approved. VA representatives use the records to determine the accuracy of payments made to VA students at flight schools.

An agency may not conduct or sponsor, and a person is not required to respond to a collection of information unless it displays a currently valid OMB control number. The Federal Register Notice with a 60-day comment period soliciting comments on this collection of information was published on APR 17, 2020, at page 21512-21513.

Affected Public: Businesses or other for Profit or Not for Profit Schools.

Estimated Annual Burden: 557 hours.

Estimated Average Burden Per Respondent: 20 minutes.

Frequency of Response: Annual.

Actual Number of Respondents: 1,672.

By direction of the Secretary.
Danny S. Green,
VA PRA Clearance Officer, Office of Quality, Performance and Risk, Department of Veterans Affairs.

[FR Doc. 2020-13598 Filed 6-23-20; 8:45 am]

BILLING CODE 8320-01-P